DEPARTMENT OF THE INTERIOR

Bureau of Land Management

[LLID-931-000-L1020-0000-JP-0000252R]

Notice of Proposed Supplementary Rule To Require the Use of Certified Noxious-Weed-Free Forage and Straw on Bureau of Land Management Lands in the State of Idaho

AGENCY: Bureau of Land Management, Interior.

ACTION: Proposed supplementary rules.

SUMMARY: The Bureau of Land Management (BLM) in Idaho is proposing a supplementary rule that would require anyone bringing or anyone feeding or storing forage or straw on BLM-administered land when using BLM public lands in Idaho to use certified noxious-weed-free forage and straw. Restoration, rehabilitation, and stabilization projects also will be required to use weed-free straw bales and mulch for project work. This action is a cooperative effort between the BLM, the U.S. Forest Service (USFS), and the Idaho State Department of Agriculture (ISDA), and supports Idaho State noxious weed laws.

DATES: Comments on the proposed supplementary rules must be received or postmarked by November 22, 2010 to be assured consideration. In developing final supplementary rules, the BLM is not obligated to consider comments postmarked or received in person or by electronic mail after this date.

ADDRESSES: Please mail comments to Roger Rosentreter, Bureau of Land Management, 1387 S. Vinnell Way, Boise, ID 83709, or e-mail comments to Roger_Rosentreter@blm.gov. If you require a printed copy of the proposed supplementary rules, please call Roger Rosentreter, (208) 373-3824 or e-mail Roger_Rosentreter@blm.gov, to request that one be mailed to you.

FOR FURTHER INFORMATION CONTACT: Roger Rosentreter, Bureau of Land Management, 1387 S. Vinnell Way, Boise, ID 83709; telephone (208) 373-3824; e-mail Roger_Rosentreter@blm.gov. Persons who use a telecommunications device for the deaf (TDD) may contact this individual by calling the Federal Information Relay Service (FIRS) at (800) 877-8339, 24 hours a day, 7 days a week.

SUPPLEMENTARY INFORMATION:

I. Public Comment Procedures

You may mail comments to Roger Rosentreter, Bureau of Land Management, 1387 S. Vinnell Way, Boise, ID 83709, or e-mail comments to Roger_Rosentreter@blm.gov. Written comments on the proposed supplementary rules should be specific, be confined to issues pertinent to the proposed supplementary rules, and explain the reason for any recommended change. Where possible, comments should reference the specific section or paragraph of the proposal which the comment is addressing. The BLM is not obligated to consider or include in the Administrative Record for the supplementary rules comments that the BLM receives after the close of the comment period (See DATES), unless they are postmarked or electronically dated before the deadline. Neither is the BLM obligated to consider comments delivered to an address other than the address listed above (See ADDRESSES).

Comments—including names, street addresses, and other contact information of respondents—will be available for public review at 1387 S. Vinnell Way, Boise, ID 83709, during regular business hours (7:30 a.m. to 3:45 p.m., Monday through Friday, except Federal holidays). Before including your address, phone number, e-mail address, or other personal identifying information in your comment, you should be aware that your entire comment—including your personal identifying information—may be made publicly available at any time. While you can ask us in your comment to withhold your personal identifying information from public review, we cannot guarantee that we will be able to do so.

II. Background

Noxious and invasive weeds are a serious problem in the western United States. Noxious weeds are spreading on BLM lands at a rate of over 2,300 acres per day, and on all western public lands at approximately 4,600 acres per day. Species such as perennial pepperweed, purple loosestrife, yellow starthistle, hoary cress (whitetop), leafy spurge, diffuse knapweed, spotted knapweed, Russian knapweed, Scotch thistle, Canada thistle, rush skeletonweed, and many others are non-native to the United States and have no natural enemies to keep their populations in balance. Consequently, depending on the circumstances (e.g., weed(s) involved, soil type, range condition, and climatic influences), these undesirable weeds may rapidly invade healthy ecosystems, displace native vegetation, reduce species diversity, destroy wildlife habitat, reduce forage for wild and domestic ungulates, weaken rehabilitation and landscape restoration efforts, increase soil erosion and stream sedimentation, create fire hazards, and degrade special resource values.

To curb the spread of noxious weeds, a growing number of Western states have jointly developed noxious-weed-free forage certification standards, and in cooperation with various Federal, State, and county agencies, have also passed weed management laws. Idaho participates in a regional inspection-certification process with Oregon, Montana, Washington, Nevada, and Wyoming and encourages, on a voluntary basis, forage producers in Idaho to grow and request voluntary certification inspections of forage products and straw.

Because forage products and straw containing noxious weed seed contribute to the spread and establishment of weed infestations, the USFS promulgated regulations in 1996, known as a “Weed Free Hay Order,” to address this issue. In response to that Order, the State of Idaho implemented a noxious-weed-free forage and straw certification program in 1997. Under Idaho Code the ISDA wrote regulations in 2007 (Title 22, Chapter 24 Noxious-Weed-Free Forage and Straw Rules and IDAPA 02.06.31). This program, which is a cooperative effort between the ISDA and the USFS, was established to limit the introduction and spread of noxious weeds through forage and straw onto National Forest System lands and other lands within Idaho. The Federal Plant Protection Act of June 2000 directs agencies to develop integrated management plans for noxious weeds. The proposed rules are intended to complement the existing regulatory framework.

III. Discussion of the Proposed Supplementary Rules

Currently, National Forest System lands are the only lands in Idaho which require the use of certified noxious-weed-free forage and straw, although some Idaho State agencies (the Idaho Department of Lands and the Idaho Department of Fish and Game) have weed-free hay policies in place for lands they manage. The proposed supplementary rules would provide a standard regulation for all users of BLM-administered lands in Idaho and provide for consistent management with National Forest System lands across jurisdictional boundaries.

The proposed supplementary rules would be implemented by including a standard stipulation in all Special Recreation Permits and most other use authorizations. Livestock grazing permits would not need to include such a stipulation because 43 CFR 4140.1(a)(3) already requires the permittee to secure authorization before supplemental feeding, maintenance feeding, and emergency feeding on lands administered by the BLM.

The stipulation would require holders of affected permits and use authorizations to use certified noxious-weed-free forage and straw, to the extent they use hay, cubes, and straw on BLM-administered public lands in Idaho. Affected permittees includes recreationists using pack and saddle stock, grazing permittees, outfitters, and contractors and operators who use straw or mulch for reclamation or re-seeding purposes. These individuals or groups would be required to use certified noxious-weed-free forage and straw while on BLM-administered public lands in Idaho, unless authorized in writing or when transporting forage across public lands from private property to private property. BLM Idaho would allow forage certified by other states to be used as forage on lands administered by Idaho BLM offices.

In addition, in cooperation with the USFS hay closure and the Idaho State Department of Agriculture Noxious-Weed-Free Forage and Straw Certification (ISDA, NWFFS) program, the BLM is proposing a prohibition on the use of forage and straw that has not been certified as noxious-weed-free, for all BLM-administered public lands within Idaho. The BLM State Office in Idaho, in cooperation with the ISDA, will implement a public information plan with the intention of publicizing the supplementary rules and notifying visitors and land users where they can purchase state-certified noxious-weed-free forage and straw.

This rule will be effective 45 days after the close of the public comment period. Similar to other agency closures, once this rule becomes effective, there will be a 60-day grace period for enforcement of this rule. This proposal is in conformance with all BLM land use plans within Idaho. The proposed supplementary rules are consistent with and supportive of the statewide Conservation Plan for the Greater Sage-Grouse in Idaho (Idaho Sage-grouse Advisory Committee, 2006), which recommends that the use of weed-free forage on public and state lands be required to discourage the spread of invasive annuals and noxious weeds.

IV. Procedural Matters

Executive Order 12866, Regulatory Planning and Review

These supplementary rules are not a significant regulatory action and are not subject to review by the Office of Management and Budget under Executive Order 12866. These rules will not have an effect of $100 million or more on the economy. They will not adversely affect, in a material way, the economy, productivity, competition, jobs, the environment, public health or safety, or State, local, or Tribal governments, or communities. These proposed supplementary rules will not create a serious inconsistency or otherwise interfere with an action taken or planned by another agency. The proposed supplementary rules do not alter the budgetary effects of entitlements, grants, user fees, or loan programs or the right or obligations of their recipients, nor do they raise novel legal or policy issues. They merely impose rules regarding the use of certified noxious-weed-free forage and straw on BLM-administered public lands in Idaho.

Clarity of the Supplementary Rules

Executive Order 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the proposed supplementary rules (grouping and order of sections, use of headings, paragraphing, etc.) aid or reduce their clarity? (4) Would the supplementary rules be easier to understand if they were divided into more (but shorter) sections? (5) Is the description of the proposed supplementary rules helpful to your understanding of the supplementary rules? How could this description be more helpful in making the supplementary rules easier to understand? Please send any comments you have on the clarity of the proposed supplementary rules to Roger Rosentreter, Bureau of Land Management, 1387 S. Vinnell Way, Boise, ID 83709, or email comments to Roger_Rosentreter@blm.gov.

National Environmental Policy Act

The BLM has prepared an environmental assessment (EA) titled “Implementation of Requirements for Certified Noxious-Weed-Free Forage and Straw On Bureau of Land Management Lands in Idaho” and has found that the proposed supplementary rules would not constitute a major Federal action significantly affecting the quality of the human environment under Section 102(2)(C) of the National Environmental Policy Act of 1969 (NEPA), 42 U.S.C. 4332(2)(C). A detailed environmental impact statement under NEPA is not required. The BLM has placed the EA and the Finding of No Significant Impact on file in the BLM Administrative Record at the address specified in the ADDRESSES section. The BLM invites the public to review these documents.

Regulatory Flexibility Act

Congress enacted the Regulatory Flexibility Act of 1980, as amended, 5 U.S.C. 601-612, (RFA) to ensure that Government regulations do not unnecessarily or disproportionately burden small entities. The RFA requires a regulatory flexibility analysis if a rule would have a significant economic impact, either detrimental or beneficial, on a substantial number of small entities. The proposed supplementary rules do not pertain specifically to commercial or governmental entities of any size but contain rules to protect the natural resources and the environment on public lands. Therefore, the BLM has determined under the RFA that these proposed supplementary rules would not have a significant economic impact on a substantial number of small entities.

Small Business Regulatory Enforcement Fairness Act

These proposed supplementary rules do not constitute a “major rule” as defined at 5 U.S.C. 804(2). They would not result in an annual effect on the economy of $100 million or more, in an increase in costs or prices, or in significant adverse effects on competition, employment, investment, productivity, innovation, or on the ability of United States-based enterprises to compete with foreign-based enterprises in domestic and export markets. They would merely impose rules regarding the use of certified noxious-weed-free forage and straw on BLM-administered public lands in Idaho.

Unfunded Mandates Reform Act

These proposed supplementary rules do not impose an unfunded mandate on State, local, or Tribal governments or the private sector of more than $100 million per year, nor do these proposed supplementary rules have a significant or unique effect on State, local, or Tribal governments or the private sector. The proposed supplementary rules do not require anything of State, local, or Tribal governments. Therefore, the BLM is not required to prepare a statement containing the information required by the Unfunded Mandates Reform Act (2 U.S.C. 1531 et seq.).

Executive Order 12630, Governmental Actions and Interference With Constitutionally Protected Property Rights (Takings)

The proposed supplementary rules do not represent a government action capable of interfering with constitutionally protected property rights. The proposed supplementary rules do not address property rights in any form and do not cause the impairment of anyone's property rights. Therefore, the Department of the Interior has determined that the proposed supplementary rules would not cause a taking of private property or require further discussion of takings implications under this Executive Order.

Executive Order 13132, Federalism

The proposed supplementary rules will not have a substantial direct effect on the states, on the relationship between the national government and the states, or on the distribution of power and responsibilities among the various levels of government. The proposed supplementary rules apply in only one State, Idaho, and do not address jurisdictional issues involving the Idaho State Government. Therefore, in accordance with Executive Order 13132, the BLM has determined that these proposed supplementary rules do not have sufficient Federalism implications to warrant preparation of a Federalism Assessment.

Executive Order 12988, Civil Justice Reform

Under Executive Order 12988, the BLM Idaho State Office has determined that these proposed supplementary rules would not unduly burden the judicial system and that they meet the requirements of sections 3(a) and 3(b)(2) of the Order.

Executive Order 13175, Consultation and Coordination With Indian Tribal Governments

In accordance with Executive Order 13175, we have found that these proposed supplementary rules do not include policies that have tribal implications. Since the proposed rules do not change BLM policy as it pertains to Tribes and do not involve Indian reservation lands, resources, or property rights, the BLM has determined that the government-to-government relationships should remain unaffected.

Executive Order 13211, Actions Concerning Regulations That Significantly Affect Energy Supply, Distribution, or Use

These proposed supplementary rules do not comprise a significant energy action. The rules will not have an adverse effect on energy supplies, production, or consumption. They only address the use of certified noxious-weed-free forage and straw on public lands and have no connection with energy policy.

Paperwork Reduction Act

These proposed supplementary rules do not contain information collection requirements that the Office of Management and Budget must approve under the Paperwork Reduction Act of 1995, 44 U.S.C. 3501 et seq.

Author

The principal author of these proposed supplementary rules is Roger Rosentreter, Botanist, Idaho BLM State Office.

Supplementary Rules To Require the Use of Certified Noxious-Weed-Free Forage and Straw on Bureau of Land Management-Administered Public Lands in Idaho

(1) To prevent the spread of noxious weeds on BLM-administered public lands in Idaho, it is a prohibited act to feed or store forage or straw on BLM-administered land that has not been certified as noxious-weed-free. Restoration, rehabilitation, and stabilization projects also are required to use weed-free straw bales and mulch for project work.

Once this rule becomes effective, there will be a 60-day grace period for enforcement of this rule.

(2) The certification program currently includes 57 weeds that have been designated as noxious in Idaho under the Idaho State noxious-weed-free standards, or certified to be free from those weeds designated in the North American Weed Free Forage Program list, which was developed by the North American Weed Management Association (NAWMA). This NAWMA list currently includes the 57 weeds designated noxious in Idaho and also includes an additional 15 invasive weeds. BLM Idaho allows forage that meets Idaho, NAWMA, or other states' standards for certification as noxious- weed-free. Although weeds may be added or removed from these various lists, the BLM recognizes this forage as certified noxious-weed-free as long as it has been marked indicating that it meets the standards for certification.

(3) Certified noxious-weed-free hay must be identified by one of the following:

(a) State certification tag attached to the bale string;

(b) At least one strand of purple and yellow (intertwined) bale twine encircling the bale;

(c) Blue and orange (intertwined) bale twine encircling the bale; or

(d) Other colored twine encircling the bale that is used to designate certified forage.

(4) Certified noxious-weed-free compressed forage bales are identified by yellow binding (strapping) material with the statement “ISDA NWFFS” and the manufacturer's name printed in purple.

(5) Certified noxious-weed-free forage in bags is identified by a stamp, sticker, or printing on the bag identifying it as certified forage.

(6) The following persons/activities are exempt from this order:

(a) Any person with a permit or letter signed by a BLM authorized officer specifically authorizing the prohibited act, such as an authorized livestock permittee during an emergency situation in which livestock must be fed uncertified forage or hay for a short period of time until they can be moved to safety; and

(b) Any person transporting hay or forage across public lands from private property to private property.

(7) Any person who knowingly or willfully violates the provisions of these supplementary rules may be required to appear before a designated United States Magistrate and may be subject to a fine of not more than $1,000 or imprisonment of not more than 12 months, or both, as defined in 43 U.S.C. 1733(a). Such violations may also be subject to enhanced fines provided for by 18 U.S.C. 3571.

Peter J. Ditton,
Acting Idaho State Director, Bureau of Land Management.

[FR Doc. 2010-23462 Filed 9-20-10; 8:45 am]

BILLING CODE 4310-GG-P